DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species.

DATES: Written data, comments or requests must be received by January 22, 2007.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application to import birds for a permit to conduct certain activities with endangered species. This notice is provided pursuant to Section 10(c) of the Endangered Species Act of 1973, as amended (16 U.S.C. 1531 et seq.). Written data, comments, or requests for copies of these complete applications should be submitted to the Director (address above).

Applicant: Zoological Society of San Diego, Escondido, CA, PRT-140973.

The applicant requests a permit to export captive-hatched Andean condors (Vultur gryphus) to Colombia for reintroduction into the wild. This notification covers activities to be conducted by the applicant over a five-year period.

Applicant: Mary E. Blair, Columbia University, New York, NY, PRT-138896.

The applicant requests a permit to import blood samples from red-back squirrel monkeys (Saimiri oerstedii) for the purpose of enhancement of the species through scientific research. This notification covers activities conducted by the applicant over a five-year period.

Applicant: Safari West, Santa Rosa, CA, PRT-140068.

The applicant requests a permit to import one male and one female captive bred cheetah (Acinonyx jubatus) from the DeWildt Cheetah and Wildlife Trust, DeWildt, South Africa, for the purpose of enhancement of the survival of the species through conservation education.

Applicant: Claire L. Yoshida, Kealakekua, HI, PRT-125757.

The applicant requests a permit to import the sport-hunted trophy of one male bontebok (Damaliscus pygargus pygargus) culled from a captive herd maintained under the management program of the Republic of South Africa, for the purpose of enhancement of the survival of the species.

Dated: December 1, 2006.
Monica Farris,
Senior Permit Biologist, Branch of Permits, Division of Management Authority.

[FR Doc. E6-21832 Filed 12-20-06; 8:45 am]

BILLING CODE 4310-55-P